DEPARTMENT OF THE INTERIOR

Bureau of Land Management

[LLCOF02000 L71220000.EA0000 LVTFC09C6050]

Notice of Availability of the Draft Environmental Impact Statement for the Proposed Over The River™ Art Project, Colorado

AGENCY: Bureau of Land Management, Interior.

ACTION: Notice of Availability.

SUMMARY: In accordance with the National Environmental Policy Act of 1969 (NEPA), as amended, the Bureau of Land Management (BLM) has prepared a Draft Environmental Impact Statement (EIS) for the Proposed Over The River™ Art Project (Over The River™ Draft EIS) and by this notice is announcing the opening of the comment period.

DATES: To ensure comments will be considered, the BLM must receive written comments on the Over The River™ Draft EIS on or before August 30, 2010. The BLM will announce future meetings or hearings and any other public involvement activities at least 15 days in advance through public notices, media releases, and/or mailings.

ADDRESSES: You may submit comments related to the Over The River™ Draft EIS by any of the following methods:

• Web site: http://www.blm.gov/co/st/en/fo/rgfo/planning/otr.html.

• E-mail: co_otr_comments@blm.gov.

• Fax: (719) 269-8599.

• Mail: BLM Royal Gorge Field Office, Over the River Comments, 3028 E. Main St., Cañon City, Colorado 81212.

Please write “OTR Comments” in the subject line of comments that are e-mailed or faxed. Copies of the Over The River™ Draft EIS are available in the BLM Royal Gorge Field Office at the above address, and on the project Web site listed above. A review copy of the Over The River™ Draft EIS is available at the Cañon City Public Library, 516 Macon Ave., Cañon City, Colorado; Salida Regional Library, 405 “E” Street, Salida, Colorado; Arkansas Headwaters Recreation Area (AHRA) office, 307 West Sackett Ave., Salida, Colorado; and the Denver Public Library, 10 W. Fourteenth Ave. Parkway, Denver, Colorado.

FOR FURTHER INFORMATION CONTACT: For further information contact Mr. Vincent Hooper, Over The River™ Project Manager, at the Royal Gorge Field Office (see ADDRESSES above); telephone (719) 269-8555; or e-mail: co_otr_comments@blm.gov.

SUPPLEMENTARY INFORMATION: The OTR Corporation (OTR Corp.), formed by the artists Christo and Jeanne-Claude, proposes to install a work of art, known as Over The River™, on Federal, State, and private lands adjacent to the Arkansas River between the cities of Salida and Cañon City in Colorado. It has filed with the BLM an application for a land use authorization under Section 302 of the Federal Land Policy and Management Act, 43 U.S.C. 1732, and its implementing regulations, 43 CFR Part 2920. Following an estimated 2-year construction period, the exhibit is proposed for a 2-week display and viewing period in early August 2013. The proposed art exhibit is a no-fee visitor event. At the end of the 2-week exhibition period, the system of cables and anchors and other above-ground materials would be removed over an estimated 3-month period. The artists would be responsible for restoring the river corridor according to the standards defined by permitting and approval authorities.

The proposed art exhibit involves the installation of 925 porous, semi-transparent fabric panels, weighing an average of 140 lbs/panel. These panels would be suspended 8 to 25 feet above the water for a total of 5.9 miles in eight locations dispersed along a 42-mile stretch of the Arkansas River. A support structure of an estimated 9,100 steel anchors would be drilled along and into the banks of the Arkansas River to support 2,275 steel anchor transition frames for an estimated 1,275 steel cables that would support the fabric panels. OTR Corp. also proposes to construct two equipment laydown areas totaling approximately 56 acres (acreage includes visitor facilities) and a 4,000-square-foot warehouse/office building. Upon project completion, the warehouse would be donated to a public agency or deconstructed and removed from the site.

The earliest that the project would be exhibited is in 2013. An estimated 344,000 visitors (which includes 100,000 baseline visitors to the area) are expected to visit the Arkansas River canyon during the 2-week exhibition period. An additional 36,000 visitors are expected to view both the installation and the removal of the art. The resulting traffic in the area is estimated to be 118,620 cars during the overall exhibition period, and 12,862 cars during installation and removal. It is assumed there would be an average of 2.9 visitors per vehicle.

The footprint of the proposed project would encompass approximately 310 acres. The project would be located primarily on Federal lands administered by the BLM Royal Gorge Field Office, but would also be located on lands owned or managed by the Colorado State Land Board (SLB), Union Pacific Railroad, and private landowners; lands leased by the Colorado Division of Wildlife (CDOW); and lands owned or cooperatively managed by Colorado State Parks in the AHRA. The Colorado Department of Transportation (CDOT) and Colorado State Patrol (CSP) have jurisdiction for activities along U.S. Highway 50. The majority of the project area is within Fremont County. However, a small portion at the western end of the project is within Chaffee County. Approximately 80 percent of the area in the proposed project would be located in the Arkansas Canyonlands Area of Critical Environmental Concern (ACEC), a BLM-specific designation that recognizes the need for recreation use as well as protection of outstandingly remarkable values.

The BLM Royal Gorge Field Office is the lead Federal agency responsible for preparing the EIS and complying with the requirements of NEPA and other applicable laws and regulations. Multiple cooperating agencies and permitting authorities have participated and provided input in the development of the Draft EIS including the Colorado Department of Natural Resources (DNR)—which consists of CDOW, Colorado State Parks, and SLB—as well as CDOT, CSP, and Chaffee and Fremont counties.

Considerations for decisions to be made through the BLM's EIS process include:

• Whether to authorize, and under what terms and conditions, the artists' request for use of public lands;

• Which combination of project elements may be authorized if the proposed project is determined to result in unacceptable impacts and the artists' proposed action is not authorized in its entirety;

• Whether some or all mitigation measures identified in the EIS may be adopted or if additional measures may be required;

• Whether the project and its potential effects are in conformance with the Resource Management Plan (RMP), including the Arkansas Canyonlands ACEC; and

• Whether an amendment to the Royal Gorge Resource Area RMP is necessary to allow for the use of public lands for the Proposed Action.

Over The River™ was informally proposed by the artists Christo and Jeanne-Claude in 1996. Based on OTR Corp.'s verbal proposal, the BLM started conducting an Environmental Assessment (EA) and held public meetings between 1997 and 2000. The BLM initiated an informal scoping period through eight public meetings held in communities within the proposed project area from April 1997 to October 2000. OTR Corp. re-approached the BLM about the proposed project in August 2005. Additional EA-level scoping occurred in January and February 2006. The BLM also hosted interagency meetings with CDOT, DNR, Fremont County, Chaffee County, and CSP on May 24, 2006, to discuss and understand the public comments and questions. The scoping comments led to a Notice Of Intent (NOI) published in the Federal Register on June 19, 2006 (71 FR 35289), announcing the intent to prepare an EIS based on several factors, including a specific request from the applicants; the increasing complexity of the project; the level of controversy related to the project; and the level of involvement during the scoping process. The NOI was also advertised in local newspapers. The OTR Corp. and the BLM developed and signed a Memorandum of Understanding for EIS preparation in May 2007. OTR Corp. delivered a Design and Planning Report in 2007 that included a preliminary set of alternatives. However, the 2007 report did not include some of the details previously requested by the BLM and cooperating agencies that were necessary to move forward with the EIS. In April 2008, the BLM received a Detailed Design Proposal including additional project information with the level of detail necessary to move forward with the EIS. This led to the process of filing an upper-level-agency review of a Notice of Realty Action, published in the Federal Register on October 31, 2008 (73 FR 64982).

This Draft EIS analyzes seven separate alternatives, including the No Action Alternative. The action alternatives were developed to consider and compare configurations of public lands that could be made available for artistic panel placement as well as construction, logistics, traffic planning, and visitor management. The process of developing a range of alternatives began with a review of the artists' proposal and public and agency scoping comments, as well as a series of cooperating agency meetings. The following four project components, each of which could be altered in various ways to respond to known issues and concerns, formed the basis of the alternatives development process: panel placement, transportation, visitor management, and temporal considerations.

The primary issues that were identified as key general concerns of the public, project team staff, and cooperators that are further analyzed in this Draft EIS include: emergency response; project engineering; natural and cultural resources (including soils, geology, noxious weeds, and wildland fire); pollution and sanitation; public safety; recreation; socioeconomics; transportation; and wildlife.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 40 CFR 1506.10.

John Mehlhoff,
Associate State Director.

[FR Doc. 2010-17245 Filed 7-15-10; 8:45 am]

BILLING CODE 4310-JB-P